DEPARTMENT OF COMMERCE

International Trade Administration

[C-331-806]

Frozen Warmwater Shrimp From Ecuador: Amended Preliminary Determination of Countervailing Duty Investigation

AGENCY: Enforcement and Compliance, International Trade Administration, Department of Commerce.

SUMMARY: The U.S. Department of Commerce (Commerce) published a notice in the Federal Register on April 1, 2024, in which Commerce preliminarily determined that countervailable subsidies are being provided to producers and exporters of frozen warmwater shrimp (shrimp) from Ecuador. Based on comments filed by interested parties in this investigation, Commerce is amending the preliminary affirmative countervailing duty (CVD) determination on shrimp from Ecuador to correct significant ministerial errors.

DATES: Applicable April 25, 2024.

FOR FURTHER INFORMATION CONTACT: Zachary Shaykin or Reginald Anadio, AD/CVD Operations, Office IV, Enforcement and Compliance, International Trade Administration, U.S. Department of Commerce, 1401 Constitution Avenue NW, Washington, DC 20230; telephone: (202) 482-2638 or (202) 482-3166, respectively.

SUPPLEMENTARY INFORMATION:

Background

In accordance with section 703(b) of the Tariff Act of 1930, as amended (the Act), and 19 CFR 351.205(b), on April 1, 2024, Commerce published in the Federal Register the preliminary affirmative CVD determination for shrimp from Ecuador, and alignment of the final determination with the final antidumping duty determination.¹ From March 28 through April 2, 2024, we received timely-filed ministerial error allegations from Industrial Pesquera Santa Priscila S.A. (Santa Priscila), Sociedad Nacional de Galápagos C.A. (SONGA), the petitioner,² and the Government of Ecuador (GOE).³ Santa Priscila, SONGA, and the GOE alleged in their ministerial error allegations that Commerce made significant ministerial errors in the Preliminary Determination with respect to Santa Priscila and SONGA's subsidy rates.⁴

¹ See Frozen Warmwater Shrimp From Ecuador: Preliminary Affirmative Countervailing Duty Determination, and Alignment of Final Determination With the Final Antidumping Duty Determination, 89 FR 22379 (April 1, 2024) (Preliminary Determination), and accompanying Preliminary Decision Memorandum (PDM).

² The petitioner in this investigation is the American Shrimp Processors Association.

³ See Santa Priscila's Letter, “Frozen Warmwater Shrimp from Ecuador—Request for Correction of Ministerial Errors with Respect to Industrial Pesquera Santa Priscila S.A. and Request for Meeting,” dated March 28, 2024 (Santa Priscila's Ministerial Error Allegation); SONGA's Letter, “Frozen Warmwater Shrimp from Ecuador—Request for Correction of Ministerial Error in Preliminary Determination,” dated March 29, 2024 (SONGA's Ministerial Error Allegation); see also Petitioner's Letter, “Frozen Warmwater Shrimp from Ecuador: Ministerial Error Comments,” dated April 2, 2024; and GOE's Letter, “Frozen Warmwater Shrimp from Ecuador—Request for Correction of Ministerial Errors with Respect to Industrial Pesquera Santa Priscila S.A. and Request for Meeting,” dated April 2, 2024 (GOE's Ministerial Error Allegation).

⁴ See Santa Priscila's Ministerial Error Allegation; see also SONGA's Ministerial Error Allegation; and GOE's Ministerial Error Allegation.

Period of Investigation

The period of investigation (POI) is January 1, 2022, through December 31, 2022.

Scope of the Investigation

The products covered by this investigation are shrimp from Ecuador. For a complete description of the scope of this investigation, see Preliminary Determination at Appendix I.

Analysis of Significant Ministerial Error Allegations

Commerce will analyze any comments received and, if appropriate, correct any significant ministerial error by amending the preliminary determination according to 19 CFR 351.224(e). A ministerial error is defined in 19 CFR 351.224(f) as “an error in addition, subtraction, or other arithmetic function, clerical error resulting from inaccurate copying, duplication, or the like, and any other similar type of unintentional error which the Secretary considers ministerial.” ⁵ A significant ministerial error is defined as a ministerial error, the correction of which, singly or in combination with other errors, would result in: (1) a change of at least five absolute percentage points in, but not less than 25 percent of, the CVD rate calculated in the original preliminary determination; or (2) a difference between a CVD rate of zero (or de minimis) and a CVD rate greater than de minimis, or vice versa.⁶

⁵ See section 705(e) of the Act.

⁶ See 19 CFR 351.224(g).

Amended Preliminary Determination

Pursuant to 19 CFR 351.224(e) and (g)(1), Commerce is amending the Preliminary Determination to reflect the correction of two ministerial errors made in the calculation of the countervailable subsidy rate for Santa Priscila.⁷ Specifically, when calculating a countervailable subsidy rate attributable to Santa Priscila under the Tax Incentives for Priority Sectors under the 2010 Organic Production Code (Priority Sectors) program, we inadvertently used the wrong tax deduction amount with which to calculate the benefit attributable to Santa Priscila under the Priority Sectors Program.⁸ Further, we inadvertently calculated a countervailable subsidy rate attributable to Santa Priscila under both the Priority Sectors program and the Investment Contract program that should have only been calculated pursuant to one program, i.e., the Priority Sectors Program.⁹ Commerce finds that these ministerial errors are significant ministerial errors within the meaning of 19 CFR 351.224(g) because correction of these errors decreases Santa Priscila's countervailing subsidy rate from 13.41 to 2.89 percent, which is a change that is at least five absolute percentage points in, and more than 25 percent of, the subsidy rate calculated for Santa Priscila in the original Preliminary Determination.

⁷ See Memorandum, “Countervailing Duty Investigation of Frozen Warmwater Shrimp from Ecuador: Allegations of Significant Ministerial Errors in the Preliminary Determination,” dated concurrently with, and hereby adopted by, this notice (Preliminary Ministerial Error Memorandum).

⁸ See Preliminary Determination PDM at 15 through 17.

⁹ Id. at 15 through 17 and 23 through 26.

Furthermore, in the Preliminary Determination, we calculated a 1.69 percent subsidy rate for SONGA and indicated that we will instruct U.S. Customs and Border Protection (CBP) to require a cash deposit equal to that rate. Section 703(b)(4)(B) of the Act, provides that Commerce will apply a de minimis threshold of two percent to a country designated by the United States Trade Representative (USTR) as a developing country for purposes of the CVD law.¹⁰ Ecuador is designated as a developing country by the USTR under CVD law and is subject to a de minimis standard of two percent.¹¹ As stated by SONGA and the GOE,¹² we inadvertently did not designate the preliminary ad valorem subsidy rate assigned to SONGA as de minimis as stipulated by section 703(b)(4)(B) of the Act. Therefore, for SONGA, we will not direct CBP to suspend liquidation of entries of the subject merchandise from Ecuador, in accordance with section 703(b)(4)(B) of the Act.

¹⁰ See section 703(b)(4)(B) of the Act; see also section 771(36) of the Act.

¹¹ See Designations of Developing and Least Developed Countries Under the Countervailing Duty Law, 85 FR 7613, 7615 (February 10, 2020); see also Frozen Warmwater Shrimp from Ecuador, India, Indonesia, and the Socialist Republic of Vietnam: Initiation of Countervailing Duty Investigation, 88 FR 81053, 81056 (November 21, 2023).

¹² See SONGA's Ministerial Error Allegation; see also GOE's Ministerial Error Allegation.

In addition, as a result of this inadvertent error and as stipulated by section 705(c)(5)(A) of the Act, we are correcting the all-others rate to equal the amended preliminary CVD rate established for Santa Priscila, i.e., 2.89 percent ad valorem, as this is the only rate that is not zero, de minimis, or based entirely on the facts otherwise available.

Also, we listed an incorrect name for one of Santa Priscila's cross-owned companies, i.e., Tropical Packing Ecuador S.A.¹³ Moreover, we inadvertently stated “aluminum extrusions from Indonesia” in the ITC Notification section of the original notice.¹⁴

¹³ See Preliminary Determination, 89 FR at 22380.

¹⁴ Id. at 22381

For a complete discussion of the alleged ministerial errors, see the Preliminary Ministerial Error Memorandum.

Amended Preliminary Determination

Company | Subsidy rate (percent ad valorem)
Industrial Pesquera Santa Priscila S.A.¹⁵ | 2.89.
Sociedad Nacional de Galápagos C.A.¹⁶ | 1.69 (de minimis).
All-Others | 2.89.

Correction

¹⁵ As discussed in the Preliminary Determination, Commerce has found the following companies to be cross-owned with Santa Priscila: Manesil S.A., Produmar S.A., Egidiosa S.A., and Tropical Packing Ecuador S.A.

¹⁶ As discussed in the Preliminary Determination, Commerce has found the following companies to be cross-owned with SONGA: Naturisa S.A., Holding Sola & Sola Solacciones S.A., and Empacadora Champmar S.A.

In the Federal Register of April 1, 2024, in FR Doc 2024-06845, on page 22380, in the third column, correct the Subsidy Rate (percent ad valorem) for Sociedad Nacional de Galapagos C.A. and All Others, as found in the rate table, to 1.69 de minimis and 2.89, respectively, and correct the name “Tropack S.A.” as found under footnote 9 to “Tropical Packing Ecuador S.A.” Additionally, in FR Doc 2024-06845, on page 22380, in the third column, second paragraph, include “As provided for in section 703(b)(4)(B) of the Act, for developing countries, any rate less than two percent ad valorem in an investigation is de minimis. Accordingly, for SONGA, we will not direct CBP to suspend liquidation of entries of subject merchandise” before the sentence stating, “Further, pursuant to 19 CFR 351.205(d), Commerce will instruct CBP to require a cash deposit equal to the rates indicated above.” Additionally, in FR Doc 2024-06845, on page 22381, in the second column, correct “aluminum extrusions from Indonesia” to “shrimp from Ecuador.”

Amended Cash Deposits and Suspension of Liquidation

The collection of cash deposits and suspension of liquidation will be established according to the rates calculated in this amended preliminary determination. Because the amended rates for Santa Priscila and all others result in decreased cash deposits, they will be effective retroactively to April 1, 2024, the date of publication of the Preliminary Determination. Parties will be notified of this determination, in accordance with section 703(d) and (f) of the Act.

Disclosure

We intend to disclose the calculations performed to parties in this proceeding within five days after public announcement of the amended preliminary determination, in accordance with 19 CFR 351.224.

International Trade Commission Notification

In accordance with section 703(f) of the Act, we will notify the International Trade Commission of our amended preliminary determination.

Notification to Interested Parties

This notice is issued and published in accordance with sections 703(f) and 777(i) of the Act.

Dated: April 19, 2024.
Ryan Majerus,
Deputy Assistant Secretary for Policy and Negotiations, performing the non-exclusive functions and duties of the Assistant Secretary for Enforcement and Compliance.

[FR Doc. 2024-08817 Filed 4-24-24; 8:45 am]

BILLING CODE 3510-DS-P